DEPARTMENT OF AGRICULTURE

Cooperative State Research, Education, and Extension Service

Notice of Intent To Establish an Information Collection

AGENCY: Cooperative State Research, Education, and Extension Service, USDA.

ACTION: Notice and request for comments.

SUMMARY: In accordance with the Paperwork Reduction Act of 1995 and Office of Management and Budget (OMB) regulations at 5 CFR part 1320, this notice announces the Cooperative State Research, Education, and Extension Service's (CSREES) intention to request approval to establish an information collection for the CSREES proposal review process.

DATES: Written comments on this notice must be received by February 24, 2003, to be assured of consideration. Comments received after that date will be considered to the extent practicable.

ADDRESSES: Written comments concerning this notice may be mailed to Robert C. MacDonald, Grants Policy Program Leader, Information Systems and Technology Management, CSREES, USDA, STOP 2216, 1400 Independence Avenue, SW., Washington, DC 20250-2216 or sent electronically to: rmacdonald@reeusda.gov.

FOR FURTHER INFORMATION CONTACT: To request a copy of the information collection, contact Robert C. MacDonald, (202) 205-5967.

SUPPLEMENTARY INFORMATION: Title: CSREES Proposal Review Process.

OMB Number: 0524-NEW.

Expiration Date of Current Approval: Not applicable.

Type of Request: Intent to seek approval to establish an information collection for three years.

Abstract: The Cooperative State Research, Education and Extension Service (CSREES) is responsible for performing a review of proposals submitted to CSREES competitive award programs in accordance with section 103(a) of the Agricultural Research, Extension, and Education Reform Act of 1998, 7 U.S.C. 7613(a). Reviews are undertaken to ensure that projects supported by CSREES are of high quality, and are consistent with the goals and requirements of the funding program.

Proposals submitted to CSREES undergo a programmatic evaluation to determine worthiness of Federal support. The evaluations consist of a peer review and may also entail an assessment by Federal employees and mail-in reviews.

The information collected from the evaluations is used to support CSREES grant programs. CSREES uses the results of the proposal evaluation to determine whether a proposal should be declined or recommended for award. When CSREES has rendered a decision, copies of reviews, excluding the names of the reviewers, and summaries of review panel deliberations, if any, are provided to the submitting Project Director. Listings of panelists' names are released; however, no association is made with the review of an individual proposal.

Estimate of Burden: CSREES estimates that anywhere from one hour to twenty hours may be required to review a proposal. It is estimated that approximately five hours are required to review an average proposal. Each proposal receives an average of four reviews.

Copies of this information collection can be obtained from Robert C. MacDonald, Grants Policy Program Leader, Information Systems and Technology Management, CSREES, USDA, STOP 2216, 1400 Independence Avenue, SW., Washington, DC 20250-2216. Telephone (202) 205-5967. E-mail: rmacdonald@reeusda.gov.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

Done in Washington, DC, this 10th day of December, 2002.
Joseph J. Jen,
Under Secretary, Research, Education, and Economics.

[FR Doc. 02-32057 Filed 12-19-02; 8:45 am]

BILLING CODE 3410-22-U